DEPARTMENT OF HEALTH AND HUMAN SERVICES

Administration for Children and Families

Submission for OMB Review; Comment Request

Title: Community-Based Abstinence Education Performance Progress Report.

OMB No.: 0970-0272.

Description: The discretionary funding Community-Based Abstinence Education Program (CBAE) is authorized by Title XI, Section 1110, of the Social Security Act (using the definitions contained in Title V, Section 510(b)(2) of the Social Security Act).

Program-Specific Performance Measure

The CBAE program developed a program-specific performance measure in response to the PART review (a process by which the Office of Management and Budget analyzes and rates a Federal program's procedures and strategies for evaluating its effectiveness), for which the program received a rating of Adequate. In an effort to gather program-specific data on rates of abstinence pre- and post-program participation, ACF and the Office of Management and Budget determined that a program-specific performance measure should be developed to assess key outcomes among program participants. The CBAE office convened a panel of abstinence education experts to gather input on the measure, and, based on the input provided, the CBAE office developed the measure. CBAE grantees will be required to ask twelve questions of the youth served in a pre- and post-survey, as well as a representative sample of the youth served in a follow-up survey.

The questions were carefully constructed by experienced evaluators to measure initiation and discontinuation of sexual intercourse as well as two key predictors of initiation: Sexual values and behavioral intentions.

The program office will collect and compile data to establish baselines and ambitious targets for the program-specific performance measure. The data will be aggregated and results will be shared with the public as they become available.

Respondents: Youth Participants.

Annual Burden Estimates
Instrument | Number of respondents | Number of responses per respondent | Average burden hours per response | Total burden hours
Community-Based Abstinence Education Program Specific Performance Measure (pre-test survey) | 1,000,000 | 1 | 0.25 | 250,000
Community-Based Abstinence Education Program Specific Performance Measure (post-test survey) | 1,000,000 | 1 | 0.25 | 250,000
Community-Based Abstinence Education Program Specific Performance Measure (follow-up test survey) | 500,000 | 1 | 0.25 | 125,000

Estimated Total Annual Burden Hours: 625,000.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project. Fax: 202-395-7245. Attn: Desk Officer for the Administration for Children and Families.

Dated: August 4, 2009.
Janean Chambers,
Reports Clearance Officer.

[FR Doc. E9-18923 Filed 8-6-09; 8:45 am]

BILLING CODE 4184-01-P